DEPARTMENT OF THE INTERIOR

Bureau of Land Management

[SDMT 106276277; SDM 112598]

Public Land Order No. 7956; Withdrawal of Pactola Reservoir—Rapid Creek Watershed; South Dakota

AGENCY: Bureau of Land Management, Interior.

ACTION: Public land order.

SUMMARY: This Public Land Order (PLO) withdraws 20,510 acres of National Forest System (NFS) lands in the Black Hills National Forest, Pennington County, South Dakota, from settlement, sale, location, or entry under the public land laws; location and entry under the United States mining laws; and leasing under the mineral and geothermal leasing laws for 20 years, subject to valid existing rights, to protect the cultural and natural resources of the Pactola Reservoir—Rapid Creek Watershed, including municipal water for Rapid City and Ellsworth Air Force Base.

DATES: This PLO takes effect on December 27, 2024.

FOR FURTHER INFORMATION CONTACT: Adam Carr, Branch Chief, Realty Lands and Renewable Energy, BLM Montana/Dakotas, 5001 Southgate Drive, Billings, Montana 59101, telephone: (406) 538-1957; email: acarr@blm.gov; or Shawn Cochran, Forest Supervisor, Black Hills National Forest, 1019 N. 5th Street, Custer, South Dakota 57730, telephone: (605) 673-9203, email: shawn.cochran@usda.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The purpose of this withdrawal is to protect and preserve cultural and natural resources of the Pactola Reservoir—Rapid Creek Watershed, including municipal water for Rapid City and Ellsworth Air Force Base, from the known and potential adverse environmental impacts that may arise from exploration and development of federally owned minerals. A Notice of Application for Withdrawal and Notification of Public Meeting was published in the Federal Register on March 21, 2023 (88 FR 17006).

Order

By virtue of the authority vested in the Secretary of the Interior by Section 204 of the Federal Land Policy and Management Act of 1976 (FLPMA), 43 U.S.C. 1714, it is ordered as follows:

1. Subject to valid existing rights, the following described lands are hereby withdrawn from settlement, sale, location, or entry under the public land laws; location and entry under the United States mining laws; and leasing under the mineral and geothermal leasing laws for 20 years.

Black Hills Meridian, South Dakota

T. 1 N., R. 4 E.,

Sec. 1;

Sec. 2, that part lying easterly of the Pactola Reservoir—Rapid Creek subwatershed boundary;

Sec. 11, that part lying easterly of the Pactola Reservoir—Rapid Creek subwatershed boundary;

Secs. 12 and 13;

Sec. 14, that part lying easterly of the Pactola Reservoir—Rapid Creek subwatershed boundary;

Sec. 23, that part lying northeasterly of Pactola Reservoir—Rapid Creek subwatershed boundary;

Sec. 24, that part lying northeasterly of Pactola Reservoir—Rapid Creek subwatershed boundary;

Sec. 25, that part lying northeasterly of Pactola Reservoir—Rapid Creek subwatershed boundary.

T. 2 N., R. 4 E.,

Sec. 13, lots 1 thru 5, SW¼SW¼, and SE¼, except Tract A of H.E.S. No. 241, that part lying southerly of Pactola Reservoir—Rapid Creek subwatershed boundary;

Sec. 14, lot 2, SW¼, W½SE¼, and SE¼SE¼, that part lying southeasterly of Pactola Reservoir—Rapid Creek subwatershed boundary;

Sec. 22, SE¼SE¼, those portions lying southerly and easterly of Pactola Reservoir—Rapid Creek subwatershed boundary;

Sec. 23, that part lying easterly of Pactola Reservoir—Rapid Creek subwatershed boundary;

Sec. 24, except Tract A of H.E.S. No. 241;

Sec. 25, except M.S. No. 1948 and M.S. No. 2016;

Sec. 26, that part lying easterly of Pactola Reservoir—Rapid Creek subwatershed boundary;

Sec. 27, those portions lying easterly of Pactola Reservoir—Rapid Creek subwatershed boundary;

Sec. 34, lots 1, 4, 6, and 9, E½NE¼, NW¼NE¼, and S½SE¼SE¼, that part lying easterly of Pactola Reservoir—Rapid Creek subwatershed boundary;

Sec. 35, except M.S. No. 2047, that part lying northeasterly of Pactola Reservoir—Rapid Creek subwatershed boundary;

Sec. 36, except M.S. No. 1948;

M.S. No. 1019, that part lying southerly of Pactola Reservoir—Rapid Creek subwatershed boundary;

M.S. No. 2047.

T. 1 N., R. 5 E.,

Sec. 2, that part lying southwesterly of Pactola Reservoir—Rapid Creek subwatershed boundary;

Secs. 3 thru 7;

Sec. 8, except M.S. No. 1918;

Secs. 9 and 10;

Sec. 11, that part lying northwesterly of the Pactola Reservoir—Rapid Creek subwatershed boundary;

Sec. 14, that part lying northwesterly of the Pactola Reservoir—Rapid Creek subwatershed boundary;

Sec. 15, N½, N½SW¼, N½SE¼, and NE¼NE¼SW¼SE¼, that part lying northerly of the Pactola Reservoir—Rapid Creek subwatershed boundary;

Sec. 16, that part lying northwesterly of the Pactola Reservoir—Rapid Creek subwatershed boundary;

Sec. 17, except M.S. Nos. 1916 and 1918 and M.S. No. 2092, Peggy Lode, Merrit No. 1 Lode, and Luckly Boy Lode;

Sec. 18, N½, NE¼SW¼, and SE¼;

Sec. 19, NE¼, NW¼NW¼, S½NW¼, S½, that part lying northwesterly of the Pactola Reservoir—Rapid Creek subwatershed boundary;

Sec. 20, except M.S. No. 1916, that part lying northerly of the Pactola Reservoir—Rapid Creek subwatershed boundary;

Sec. 21, NW¼, that part lying northwesterly of the Pactola Reservoir—Rapid Creek subwatershed boundary;

Sec. 30, W½, that part lying northwesterly of the Pactola Reservoir—Rapid Creek subwatershed boundary.

H.E.S. No. 106;

H.E.S. No. 599;

M.S. No. 891.

T. 2 N., R. 5 E.,

Sec. 18, that part lying southerly of the Pactola Reservoir—Rapid Creek subwatershed boundary;

Sec. 19, that part lying southwesterly of the Pactola Reservoir—Rapid Creek subwatershed boundary;

Sec. 20, SW¼, that part lying southwesterly of the Pactola Reservoir—Rapid Creek subwatershed boundary;

Sec. 28, SW¼, that part lying southerly of the Pactola Reservoir—Rapid Creek subwatershed boundary;

Sec. 29, that part lying westerly of the Pactola Reservoir—Rapid Creek subwatershed boundary;

Sec. 30, except M.S. No. 1948 and M.S. No. 2016;

Sec. 31, lots 5 and 6, lots 10 thru 19, NE¼, E½NW¼, NW¼NE¼SE¼, W½SE¼SE¼SE¼, and those portions of M.S. No. 504 further described as Town of Silver City, Blocks A, B, C, D, and E, lots 3 thru 16 and lots 23 thru 32 of Block 9, lots 4 and 5, lots 12 thru 15, lots 27 thru 30 of Block 12, and Blocks 19 and 20;

Sec. 32, except M.S. No. 2040 and The Silver City Cemetery Tract, as shown on the survey plat of the Silver City Cemetery Tract recorded as Doc. # A201717833, in the Pennington County Register of Deeds, on 12/19/2017, at 2:15 p.m., that part lying southwesterly of the Pactola Reservoir—Rapid Creek subwatershed boundary; Rapid Creek subwatershed boundary;

Sec. 33, that part lying southerly of the Pactola Reservoir—Rapid Creek subwatershed boundary;

Sec. 34, that part lying southerly of the Pactola Reservoir—Rapid Creek subwatershed boundary;

Sec. 35, those portions lying westerly of the Pactola Reservoir—Rapid Creek subwatershed boundary;

M.S. No 2040, except W½SE¼SE¼SE¼ of Sec. 31 and The Silver City Cemetery Tract, as shown on the survey plat of the Silver City Cemetery Tract recorded as Doc. #A201717833, in the Pennington County Register of Deeds, on 12/19/2017, at 2:15 p.m.

The Pactola Reservoir—Rapid Creek subwatershed boundary described within this land description was derived from Geographic Information Systems (GIS) and used for convenience in determining acreage. This subwatershed is also known as Hydrological Unit Code (HUC) 101201100110. This land description intends to include all Federal lands administered by the United States Department of Agriculture Forest Service within this subwatershed. The actual boundary is intended to be the location of said subwatershed as it exists on the ground.

The areas described aggregate 20,510 acres, more or less, according to the official plats of surveys of the said lands, on file with the Bureau of Land Management, Conveyance Documents, and GIS.

2. The withdrawal made by this order does not alter the applicability of laws governing the use of public lands or NFS lands other than the public land laws, the United States mining laws, mineral leasing, and geothermal leasing laws.

3. The withdrawal will expire 20 years from the effective date of this Order, unless, as a result of a review conducted prior to the expiration date pursuant to Section 204(f) of FLPMA, 43 U.S.C. 1714(f), the Secretary determines the withdrawal should be extended.

(Authority: 43 U.S.C. 1714)

Robert T. Anderson,
Solicitor.

[FR Doc. 2024-30790 Filed 12-26-24; 8:45 am]

BILLING CODE 3411-15-P